DEPARTMENT OF HEALTH AND HUMAN SERVICES

Invitation To Become a Healthy People 2030 Champion

AGENCY: Office of Disease Prevention and Health Promotion, Office of the Assistant Secretary for Health, Office of the Secretary, Department of Health and Human Services.

ACTION: Notice.

SUMMARY: The U.S. Department of Health and Human Services' (HHS) Office of Disease Prevention and Health Promotion (ODPHP) invites public and private sector organizations that support Healthy People 2030, the nation's disease prevention and health promotion plan, to become a Healthy People 2030 Champion. The selected Healthy People 2030 Champions will be recognized for their commitment and work toward achieving Healthy People 2030's vision of a society in which all people can achieve their full potential for health and well-being across the lifespan.

DATES: Online applications will be accepted starting on September 21, 2022 and will be reviewed on a rolling basis.

ADDRESSES: Interested organizations are invited to submit an online Healthy People 2030 Champion application, which can be found at https://health.gov/healthypeople/about/healthy-people-2030-champion-program. Questions about the Healthy People 2030 Champions may be emailed to HP2030Partners@hhs.gov.

FOR FURTHER INFORMATION CONTACT: Emmeline Ochiai, Office of Disease Prevention and Health Promotion, Office of the Assistant Secretary for Health, U.S. Department of Health and Human Services; 1101 Wootton Parkway, Suite 420, Rockville, MD 20852; Telephone: (240) 453-8280. Email: HP2030Partners@hhs.gov.

SUPPLEMENTARY INFORMATION:

Requirements of Interested Organizations. Organizations that support Healthy People 2030, disease prevention, health promotion, and well-being and that demonstrate efforts toward addressing social determinants of health (SDOH) and health literacy, eliminating health disparities, and achieving health equity in the United States may submit an application online to become a Healthy People 2030 Champion. The online application is available at https://health.gov/healthypeople/about/healthy-people-2030-champion-program.

Eligibility for Interested Organizations. To be eligible to become a Healthy People 2030 Champion, an organization shall: (1) have a demonstrated interest in, understanding of, and experience with disease prevention, heath promotion, SDOH, health disparities, health equity, health literacy, and/or well-being or (2) have an organizational or corporate mission that is aligned with the Healthy People 2030 vision, mission, overarching goals, foundational principles, or objectives; and (3) agree to sign a letter of understanding (LOU) with ODPHP, which will set forth the details of how the organization is supporting the vision of the Healthy People 2030. Individuals are not eligible to be Healthy People 2030 Champions.

Healthy People 2030 Champions. Healthy People 2030 Champions can be public and private organizations such as those at the state, local, county, and tribal levels, non-governmental organizations, non-profit organizations, businesses, academic organizations, organizations that impact health outcomes, philanthropic organizations, and tribal organizations that identify themselves as being aligned with or promoting Healthy People 2030, including the Healthy People 2030 vision and overarching goals. All organizations may apply. Applicants for Healthy People 2030 Champions shall complete an online application (located at https://health.gov/healthypeople/about/healthy-people-2030-champion-program) and identify in the application how they address or support health promotion, disease prevention, SDOH, health disparities, health equity, health literacy, and/or well-being and how they work in alignment with Healthy People 2030 through activities, philanthropy, or other means. Applicants for Healthy People 2030 Champions will be evaluated according to the organization's demonstrated commitment to support the overarching goals of Healthy People 2030 and the Healthy People 2030 objectives.

The following activities may be considered as an organization's demonstrated commitment to Healthy People 2030's overarching goals and objectives (https://health.gov/healthypeople/about/healthy-people-2030-framework):

• Promoting and increasing access to disease prevention and health promotion activities;

• Providing access to training or certification programs for disease prevention and health promotion;

• Addressing SDOH, eliminating disparities, achieving health equity, promoting health literacy, and/or promoting well-being using evidence-based interventions;

• Providing training and other necessary resources to adapt or modify disease prevention and health promotion activities to meet the needs of diverse populations, address SDOH, promote health literacy, eliminate disparities, achieve health equity, and/or promote well-being;

• Developing partnerships across a variety of sectors, including business, community, academia, education, faith-based, government, health care, media, public health, and technology;

• Working across sectors to address SDOH, promote health literacy and well-being, eliminate disparities and achieve health equity;

• Evaluating health promotion and disease prevention programs or partnering with academic institutions or public health organizations to evaluate health promotion and disease prevention activities;

• Including information in public facing materials about programs for disease prevention, health promotion, addressing SDOH, eliminating disparities, achieving health equity, and/or promoting health literacy or well-being in community needs assessments;

• Adopting or implementing the Healthy People 2030 framework (i.e., vision, mission, overarching goals, foundational principles), Leading Health Indicators (LHIs), Overall Health and Well-Being Measures (OHMs) and/or Healthy People 2030 objectives in their strategic plan;

• Promoting Healthy People 2030 and providing opportunities and venues for disease prevention and health promotion activities;

• Partnering with national, state, tribal, or local volunteer organizations to provide education, training, or programs regarding health promotion, disease prevention, SDOH, health disparities, health equity, health literacy, and well-being;

• Supporting an entity with the responsibility to organize and coordinate efforts within and across sectors to foster health promotion and well-being;

• Promoting collaboration across all levels, including neighborhoods, communities, tribes, cities, states, counties, and localities, to increase and expand participation in health promotion and disease prevention activities;

• Disseminating through a variety of platforms messaging about the benefits of and resources available to promote disease prevention, health promotion, well-being and the importance of addressing SDOH, health literacy, health disparities, and health equity;

• Supporting the coordination and standardization of data to enable comparisons across national, state, local, county, and/or tribal levels;

• Providing grants, funding opportunities, and other resources to programs that address disease prevention, health promotion, well-being, SDOH, health literacy, health equity, and health disparities.

Funds: None. Neither HHS nor ODPHP will provide funds to support Healthy People 2030 Champions. Applicants and Healthy People 2030 Champions will not be expected to contribute funds.

Application Requirements: Organizations may apply to be a Healthy People 2030 Champion. Organizations should complete a Healthy People 2030 Champion application located at https://health.gov/healthypeople/about/healthy-people-2030-champion-program and describe in their application their support of the Healthy People 2030 vision of a society in which all people can achieve their full potential for health and well-being across the lifespan. Each Healthy People 2030 Champion applicant shall provide the following information via the Healthy People 2030 Champion online application: (1) Organization name, location, website, and submitter's contact information; (2) a brief description of the organization's mission and/or values; (3) the communities, clients, or constituents the organization strive to assist, support, or serve; (4) a description of activities that demonstrate the organization's commitment to Healthy People 2030's vision (i.e., a society in which all people can achieve their full potential for health and well-being across the lifespan) and how the organization supports or plans to support the Healthy People 2030 vision and address disease prevention, health promotion, SDOH, health disparities, health equity, health literacy, or well-being, such as prioritizing underserved populations, philanthropy, or alignment with specific Healthy People 2030 objectives, LHIs, or OHMs. Submission of an application does not guarantee acceptance as a Healthy People 2030 Champion. ODPHP will review and evaluate applications for alignment with the Healthy People 2030 vision.

Organizations selected by ODPHP to be Healthy People 2030 Champions will sign a letter of understanding (LOU) with ODPHP outlining the terms and parameters of their support for Healthy People 2030. Organizations that are selected to participate in the Healthy People 2030 Champion program, maintain an active LOU, and work in alignment with the Healthy People 2030 will be recognized as Healthy People 2030 Champions on Health.gov/healthypeople2030 and provided with a digital Healthy People 2030 Champion badge for their website in addition to Healthy People 2030 information, tools, and resources for dissemination. Use of the Healthy People 2030 Champion badge does not imply any federal endorsement of the collaborating organization's general policies, activities, or products.

Background: Each decade since 1980, the Healthy People initiative has established and monitored national health objectives with 10-year targets to meet a broad range of health needs, encourage collaborations across sectors, guide individuals toward making informed health decisions, and measure the impact of disease prevention and health promotion activities. Launched August 2020, the current iteration—Healthy People 2030—leverages scientific insights and lessons from the past decade, along with the new knowledge of current data, trends, and innovations. Healthy People 2030 provides science- and evidence-based, 10-year national objectives for promoting health and preventing disease and sets targets to be achieved by the year 2030. It identifies public health priorities that address the major risks to health and well-being and serves as a resource for preventing disease, promoting health, addressing SDOH and health literacy, eliminating health disparities, and achieving health equity. Healthy People 2030 reflects input from the Secretary's Advisory Committee on National Health Promotion and Disease Prevention; the National Academies of Sciences, Engineering, and Medicine; a technical expert panel; subject matter experts from across HHS and other federal agencies; and members of the public via multiple public comment periods. ODPHP leads and manages the development and implementation of Healthy People 2030 on behalf of HHS.

The Healthy People 2030 framework and objectives outline the nation's plan for achieving the Healthy People 2030 vision of a society in which all people can achieve their full potential for health and well-being across the lifespan. Healthy People 2030's framework includes its vision, mission, overarching goals, guiding foundational principles, and is supported by over 350 specific measurable objectives with targets, LHIs, and OHMs. Healthy People 2030 serves as a resource and provides user-centered tools for disease prevention and health promotion, including science-based objectives, national and population-level data, evidence-based resources, and SDOH literature summaries. Detailed information about Healthy People 2030 is available at https://health.gov/healthypeople.

Authority: 42 U.S.C. 300u(a).

Dated: September 9, 2022.
Paul Reed,
Deputy Assistant Secretary for Health, (Disease Prevention and Health Promotion).

[FR Doc. 2022-20693 Filed 9-23-22; 8:45 am]

BILLING CODE 4150-32-P